DEPARTMENT OF COMMERCE

Foreign-Trade Zones Board

[Order No. 2103]

Reorganization of Foreign-Trade Zone 104 (Expansion of Service Area) Under Alternative Site Framework; Savannah, Georgia

Pursuant to its authority under the Foreign-Trade Zones Act of June 18, 1934, as amended (19 U.S.C. 81a-81u), the Foreign-Trade Zones Board (the Board) adopts the following Order:

Whereas, the Foreign-Trade Zones (FTZ) Act provides for “ . . . the establishment . . . of foreign-trade zones in ports of entry of the United States, to expedite and encourage foreign commerce, and for other purposes,” and authorizes the Board to grant to qualified corporations the privilege of establishing foreign-trade zones in or adjacent to U.S. Customs and Border Protection ports of entry;

Whereas, the Board adopted the alternative site framework (ASF) (15 CFR Sec. 400.2(c)) as an option for the establishment or reorganization of zones;

Whereas, World Trade Center Savannah, LLC, grantee of Foreign-Trade Zone 104, submitted an application to the Board (FTZ Docket B-02-2020, docketed January 14, 2020) for authority to expand the service area of the zone to include the portion of Burke County, Georgia adjacent to the Savannah (Georgia) U.S. Customs and Border Protection (CBP) port of entry, as delineated in the map submitted by the applicant on June 23, 2020;

Whereas, notice inviting public comment was given in the Federal Register (85 FR 4632, January 27, 2020) and the application has been processed pursuant to the FTZ Act and the Board's regulations; and,

Whereas, the Board adopts the findings and recommendations of the examiner's report, and finds that the requirements of the FTZ Act and the Board's regulations are satisfied with regard to the portion of Burke County adjacent to the Savannah CBP port of entry;

Now, therefore, the Board hereby orders:

The application to reorganize FTZ 104 to expand the service area under the ASF is approved with regard to the portion of Burke County adjacent to the Savannah CBP port of entry, subject to the FTZ Act and the Board's regulations, including Section 400.13, and to the Board's standard 2,000-acre activation limit for the zone.

Dated: August 12, 2020.
Jeffrey I. Kessler,
Assistant Secretary for Enforcement and Compliance, Alternate Chairman, Foreign-Trade Zones Board.

[FR Doc. 2020-17991 Filed 8-17-20; 8:45 am]

BILLING CODE 3510-DS-P